DEPARTMENT OF HOUSING AND URBAN DEVELOPMENT

[Docket No. FR-5309-N-01]

Notice of Availability: Program Requirements for Community Development Block Grant Program Funding Under the American Recovery and Reinvestment Act of 2009

AGENCY: Office of the Assistant Secretary for Community Planning and Development, HUD.

ACTION: Notice.

SUMMARY: HUD announces the program requirements, submission deadlines, and waivers and alternative requirements for funding available under the Community Development Block Grant Recovery (CDBG-R) program authorized by Title XII of the American Recovery and Reinvestment Act of 2009 (Pub. L. 111-5, approved February 17, 2009). The focus of CDBG-R funding is on infrastructure improvements that meet the overall goals of the American Recovery and Reinvestment Act, which are to stimulate the economy through measures that modernize the nation's infrastructure, improve energy efficiency, and expand educational opportunities and access to health care. Approximately $1 billion is available for CDBG-R to states and local governments. The notice establishing the program requirements, including waivers and alternative requirements, is available on the HUD Web site at: http://www.hud.gov/recovery/cdblock.cfm.

FOR FURTHER INFORMATION CONTACT: Stanley Gimont, Director, Office of Block Grant Assistance, Office of Community Planning and Development, Department of Housing and Urban Development, 451 7th Street, SW., Room 7286, Washington, DC 20410; telephone 202-708-3587 (this is not a toll-free number). Persons with hearing or speech impairments may access this number through TTY by calling the toll-free Federal Information Relay Service at 800-877-8339.

Dated: April 14, 2009.
Nelson R. Bregón,
General Deputy Assistant Secretary for Community Planning and Development.

[FR Doc. E9-10968 Filed 5-6-09; 4:15 pm]

BILLING CODE 4210-67-P